DEPARTMENT OF COMMERCE

National Oceanic and Atmospheric Administration

RIN 0648-XW35

Mid-Atlantic Fishery Management Council; Public Meeting

AGENCY: National Marine Fisheries Service (NMFS), National Oceanic and Atmospheric Administration (NOAA), Commerce.

ACTION: Notice of public meeting.

SUMMARY: The Mid-Atlantic Fishery Management Council's (MAFMC) Squid, Mackerel, and Butterfish Committee will hold a public meeting that also includes the Squid, Mackerel, and Butterfish Advisory Panel as well as the Amendment 11 Fishery Management Action Team (FMAT).

DATES: The meeting will be held on Wednesday, May 26, 2010, from 10 a.m. to 6 p.m.

ADDRESSES: The meeting will be held at the Courtyard Baltimore BWI Airport Hotel, 1671 West Nursery Road, Linthicum, MD 21090; telephone: (410) 859-8855.

Council address: Mid-Atlantic Fishery Management Council, 800 N. State Street, Suite 201, Dover, DE 19901; telephone: (302) 674-2331.

FOR FURTHER INFORMATION CONTACT: Daniel T. Furlong, Executive Director, Mid-Atlantic Fishery Management Council, 800 N. State Street, Suite 201, Dover, DE 19901; telephone: (302) 526-5255.

SUPPLEMENTARY INFORMATION: The purpose of this meeting is to address outstanding issues within Amendment 11 to the Atlantic Mackerel, Squid, and Butterfish Fishery Management Plan. At the April 2010 MAFMC Council meeting, the SMB Committee requested that the Amendment 11 Fishery Management Action Team (FMAT), the SMB Advisory Panel, and the SMB Committee meet regarding mackerel limited access to resolve ongoing historical participation issues. These participation issues led the Committee to recommend delaying adoption of Amendment 11's alternatives regarding mackerel limited access. The Committee will recommend further action pending the results of the May 26, 2010 meeting and the Council may take action on Amendment 11 at its June 2010 Council meeting in New York, NY.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: May 5, 2010.
Tracey L. Thompson,
Acting Director, Office of Sustainable Fisheries, National Marine Fisheries Service.

[FR Doc. 2010-10966 Filed 5-7-10; 8:45 am]

BILLING CODE 3510-22-S